DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Building Science & Technology (BS&T) Publications Customer Satisfaction Research.

OMB Number: 1660-New.

Abstract: Under the mandates of Executive Order 12862, this research project evaluates customer satisfaction with FEMA's BS&T Publications and obtains information on how the publications are used, their impact on building safety and on reducing damage caused by natural and man-made disasters. The study also establishes a baseline for tracking customer satisfaction over time, and provides benchmark data for program planning and management.

Affected Public: Individuals or households, Business or other for-profit, Not-for-profit institutions, Federal Government, and State, local or tribal government.

Number of Respondents: 1,438.

Estimated Time per Respondent: Completion of survey responses is estimated at between 8 to 10 minutes per respondent and 6 hours for selective voluntary participation in follow-up focus group sessions.

Estimated Total Annual Burden Hours: 496 hours.

Frequency of Response: One-time.

Comments

Interested persons are invited to submit written comments on the proposed information collection to the Office of Information and Regulatory Affairs at OMB, Attention: Desk Officer for the Department of Homeland Security/FEMA at e-mail address kflee@omb.eop.gov or facsimile number (202) 395-7285. Comments must be submitted on or before March 18, 2004. In addition, interested persons may also send comments to FEMA (see contact information below).

FOR FURTHER INFORMATION CONTACT: Requests for additional information or copies of the information collection should be made to Muriel B. Anderson, Chief, Records Management Branch, FEMA at 500 C Street, SW, Room 316, Washington, DC 20472, facsimile number (202) 646-3347, or e-mail address InformationCollections@fema.gov.

Dated: February 5, 2004.
Edward W. Kernan,
Division Director, Information Resources Management Division, Information Technology Services Directorate.

[FR Doc. 04-3337 Filed 2-13-04; 8:45 am]

BILLING CODE 9110-13-P